FEDERAL COMMUNICATIONS COMMISSION

47 CFR Part 73

[DA 05-2205; MB Docket No. 05-243]

Radio Broadcasting Services; Meeteetse, Wyoming

AGENCY: Federal Communications Commission.

ACTION: Proposed rule.

SUMMARY: The Audio Division, on its own motion, proposes the substitution of Channel 259C for vacant Channel 273C at Meeteetse, Wyoming. The current allotment of Channel 273C at Meeteetse is not in compliance with the minimum distance separation requirements of Section 73.207(b) of the Commission's rules. The proposed substitution would resolve an existing distance spacing conflict. In this instance, existing vacant Channel 273C at Meeteetse is short-spaced to the licensed site of FM Station KHOC, Channel 273C, Casper, Wyoming. Channel 273C at Meeteetse is located 260.3 kilometers apart from FM Station KHOC. The minimum distance spacing requirement is 290 kilometers. Channel 259C can be allotted to Meeteetse, Wyoming in conformity with the Commission's rules without a site restriction at reference coordinates 44-09-26 NL and 108-52-15 WL.

DATES: Comments must be filed on or before September 19, 2005 and reply comments on or before October 4, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Notice of Proposed Rule Making, MB Docket No. 05-243, adopted July 27, 2005, and released July 29, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming, is amended by removing Channel 273C and adding Channel 259C at Meeteetse.

Federal Communications Commission.
John A. Karousos,
Assistant Chief, Audio Division, Media Bureau.

[FR Doc. 05-16069 Filed 8-16-05; 8:45 am]

BILLING CODE 6712-01-P